DEPARTMENT OF HOUSING AND URBAN DEVELOPMENT

[Docket No. FR-7092-N-23]

Privacy Act of 1974; System of Records

AGENCY: Office of Chief Procurement Officer, HUD.

ACTION: Notice of a rescindment of a system of records.

SUMMARY: Pursuant to the provisions of the Privacy Act of 1974, as amended, the Department of the Housing and Urban Development (HUD), Office of Chief Procurement Officer (OCPO) is issuing this notice of its intent to rescind the HUD Integrated Acquisition Management System (HIAMS) because all data has migrated to the Enterprise Data Warehouse for decommissioning.

DATES: Comments will be accepted on or before March 18, 2024. This proposed action will be effective immediately upon publication.

ADDRESSES: You may submit comments, identified by one of the following methods:

Federal e-Rulemaking Portal: http://www.regulations.gov. Follow the instructions provided on that site to submit comments electronically.

Fax: 202-619-8365.

Email: www.privacy@hud.gov.

Mail: Attention: Privacy Office; LaDonne White, Chief Privacy Officer; The Executive Secretariat; 451 Seventh Street SW, Room 10139; Washington, DC 20410-0001.

Instructions: All submissions received must include the agency name and docket number for this rulemaking. All comments received will be posted without change to http://www.regulations.gov. including any personal information provided.

Docket: For access to the docket to read background documents or comments received go to http://www.regulations.gov.

FOR FURTHER INFORMATION CONTACT: The Privacy Office; 451 Seventh Street SW, Room 10139; Washington, DC 20410-0001; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD Integrated Acquisition Management System (HIAMS) was decommissioned and replaced by the US Department of Treasury's contract writing system Planning Tool for Resource Integration Synchronization and Management (PRISM) on October 1, 2014. Per the retention policy, HIAMS data/databases have been removed from all servers/networks.

SYSTEM NAME AND NUMBER:

HUD Integrated Acquisition Management System (HIAMS).

HISTORY:

The previously published notice in the Federal Register [Agency Docket Number FR-5478-N-05] at 76 FR 66949 (October 28, 2011).

Ladonne L. White,
Chief Privacy Officer, Office of Administration.

[FR Doc. 2024-03320 Filed 2-15-24; 8:45 am]

BILLING CODE 4210-67-P